ENVIRONMENTAL PROTECTION AGENCY

[FRL-7262-8]

Watershed Initiative: Call for Nominations

AGENCY: Environmental Protection Agency (EPA).

ACTION: Notice.

SUMMARY: EPA is launching a new grant program to encourage the protection and restoration of our country's water bodies through the use of watershed approaches. The President's fiscal year (FY) 2003 budget, which is now before Congress, incorporates a request for $21 million for this Watershed Initiative. Subject to the availability of appropriations for this purpose, EPA plans to select through a competitive process up to 20 watersheds throughout the country for grants to support promising watershed-based approaches to clean water. This notice sets forth the process that will be used for selecting the watersheds and serves as the call for nominations from Governors and Tribal Leaders.

DATES: Governor or Tribal Leader nominations must be postmarked and received electronically by EPA on or before November 21, 2002.

ADDRESSES: Nomination packages must be submitted both by mail or courier and electronically. Please follow the detailed instructions provided in section V of the SUPPLEMENTARY INFORMATION section below.

FOR FURTHER INFORMATION CONTACT: Carol Peterson, telephone: 202-566-1304; e-mail: peterson.carol@epa.gov or one of the regional contacts listed in section VI of the SUPPLEMENTARY INFORMATION section below. Additional information and any updated guidance will be posted on the Watershed Initiative's website at http://www.epa.gov/owow/watershed/initative.

SUPPLEMENTARY INFORMATION:

I. Introduction

A. The Watershed Approach

To address water resource problems more effectively, water resource managers at all levels have been adopting a more comprehensive approach—one that recognizes that the health of aquatic resources is affected by what happens on the land that drains in to a water body. A watershed can be large or small. It can encompass the entire Mississippi River basin or a small stream in western Georgia. The “watershed approach” addresses natural resource issues that cross geographic, jurisdictional and political boundaries. This approach recognizes needs for water supply, water quality, flood control, navigation, hydropower generation, fisheries, biodiversity, habitat preservation and recreation—and it recognizes that these needs often compete. It provides for establishing local priorities in the context of national goals, coordination of public and private actions, encouragement of partnerships to affect change, and enlists the support and knowledge base of the public at the local level.

Over the years, many communities around the country have joined forces to protect their watersheds, often using innovative and novel approaches that are geared toward solving the problems that make sense for their locality. In recent years, governments, non-profit organizations, businesses, and citizens have employed watershed-based approaches to refocus their efforts to protect and restore the nation's waters. These refocused efforts have brought positive results and attainment of State/Tribal water quality standards in some areas.

B. Goals of the Watershed Initiative

On January 25, 2002, EPA announced that it would request $21 million in its fiscal year 2003 budget for a new Watershed Initiative. Subject to the availability of appropriations, EPA will employ a competitive grant process to select up to 20 watersheds in which to award grants under this program. These grants will fund eligible activities in support of comprehensive watershed-based approaches to protecting and restoring water resources.

The Watershed Initiative will build upon the Agency's holistic watershed approach to water quality management. The Initiative will encourage coalition-based strategies for attaining water quality standards and improving water resource protection and restoration on a watershed level. EPA hopes the Initiative will encourage practical and efficient models that can be adapted to local circumstances across the country. The goal of this Initiative is to advance the successes of partnerships and coalitions that have undertaken the necessary watershed evaluations and assessments and have a technically sound watershed plan ready to carry out. EPA believes the Watershed Initiative will help encourage the kind of pro-active, incentive-based protection and restoration measures that will ultimately yield cleaner water.

C. Process for Designing the Watershed Initiative

Since January, EPA has been working with an array of people to gather ideas and suggestions on how to design the new Watershed Initiative. During the last few months, EPA has been interacting (via conferences, meetings, listening sessions, and speaking engagements) with States, Tribes, congressional staff, and a host of local government and community groups to: (1) Introduce the Initiative, (2) gain insight into potential challenges, and (3) solicit views on how to design the proposed program. An EPA work group was formed and consists of representatives from other offices within EPA as well as watershed experts from each of the Agency's Regional Offices. EPA held public listening sessions in Washington, DC, and published a notice and request for comments in the Federal Register (67 FR 36172; May 23, 2002). Sixty-eight people attended one of the four listening sessions and over 105 responded to the Federal Register notice. The Agency considered all of the suggestions and viewpoints in formulating the Watershed Initiative outlined in this notice.

The Agency received comments from a wide variety of interested parties, such as state agencies, county and local authorities, non-profit organizations, academia, other federal agencies, and private citizens. One letter, received from 20 commenters, expressed opposition to the Initiative in general because of the concern that the Initiative would detract from EPA's core regulatory programs. To the contrary, the Watershed Initiative is intended to support any watershed with a far-reaching, comprehensive plan, which could include a regulatory requirement, such as, EPA-approved Total Maximum Daily Loads (TMDLs).

The majority of the respondents were supportive of the Initiative and in agreement with EPA's general approach and suggested criteria. As a result of the comments received, the selection criteria were amended. The concept of a watershed being a “high value” resource was eliminated, and greater weight will be given to those nominations that focus on environmental results and show broad stakeholder involvement.

Of all the questions posed, commenters were most divided on whether the Governors and Tribal Leaders should submit the nominations to EPA, or whether the individual watershed organizations should be able to submit their nominations directly to EPA. EPA elected to have the Governors and Tribal Leaders make the nominations. The Agency feels strongly that in order for the Initiative to be successful, the States and Tribes must be committed to the targeted watersheds and play an active role in the Initiative.

D. Funding Availability

Subject to the availability of appropriations, $21 million will be available in FY 2003 for the Watershed Initiative. EPA expects to use the majority of the money for grants to the selected watersheds. EPA anticipates that typical grant awards for the selected watersheds will range from $300,000 to $1,300,000, depending on the amount requested and the overall size and need of the project. About five percent of the total appropriation will go toward enhancing national tools, training, and technical assistance that will help local partnerships be more effective at improving watershed health, so that watersheds which are nominated but not selected, and other watersheds, will also benefit from the Initiative. The total number and amount of the awards will depend on the amount of funds made available.

EPA expects to announce selections early in 2003 and complete the grant award process, including grant work plan negotiations through the appropriate EPA Regional Office, by May 2003. Grants awarded will be one-time awards and grant recipients should use the funds within 2-3 years. Subsequent funding would involve a new call for watershed nominations and is predicated on continued appropriations. Therefore, any proposal for work beyond the initial funding period would need to be submitted through the competitive process and will not receive preferential consideration based on the applicant's previous award.

II. Competing for a Watershed Initiative Grant

EPA will select watersheds through a national competition and will fund projects consisting of eligible activities within each plan (see section IV.C for a description of the activities that are eligible for funding under this grant program). The size or scale of the watershed is based on the range and geographic location(s) of the problem or threat, and the projects to be undertaken to address them. Therefore, the “watershed plan,” in this context may be a subset of a larger and more extensive formal watershed plan. Each watershed nomination must contain only one plan, yet a plan may include a single project or multiple projects within the watershed. Preference will be given to inter-jurisdictional watershed plans, that is, those that involve multiple states and/or tribes. Watershed plans that transcend international borders may also be considered provided that the appropriate water agency in the adjacent country is a partner or otherwise supports the project. Watersheds and watershed plans will be selected based on the quality of the nominations received and adherence to the selection criteria. Funding decisions will be made based on the eligibility of the project or projects within the selected watershed plan. A full grant application will be required only for the selected watersheds (see section III).

A. The Nomination and Selection Process

Watersheds must be nominated by Governors or Tribal Leaders. Each Governor or Tribal Leader will prepare or solicit proposed watershed plans from eligible entities in a manner most appropriate to their state or tribe and nominate the most meritorious to EPA.

Governors or Tribal Leaders are invited to nominate two state or tribal watersheds each. There is, however, no limit on the number of inter-state or joint state and tribal watersheds that can be nominated. For inter-state or joint state and tribal watershed plans, any of the involved Governors/Tribal Leaders may submit the nomination. Such watershed nominations must have the endorsement of all affected state or tribal governmental entities before submittal to EPA.

Governors and Tribal Leaders are to submit their watershed nominations to EPA (see section V for the specific details). All nominations will be screened by EPA staff prior to review to determine if they are eligible, complete, and in accordance with instructions laid out in this notice. Once received by EPA, the nominations will undergo two levels of review—one at the regional level and one at the national level. Each of the Agency's Regional Offices will convene a Review and Evaluation Panel that will assess how well the overall watershed plan meets the program criteria described below. Based on the panel review and recommendation, each Regional Administrator will then forward his/her region's top four candidates to EPA's Office of Water at Headquarters. The Office of Water will convene a Technical Advisory Panel at the national level consisting of representatives from the Agency's Program and Regional Offices, as well as members of other federal agencies, to review the technical merit of the watershed plan and eligible projects and rank the watershed nominations sent forward by the EPA Regional Offices. In addition to the prescribed criteria, factors such as geographic diversity, project diversity, watershed size, urban/rural mix, and cost will be considered in ranking nominations for consideration by the Administrator. The Administrator will select the watersheds and the watershed plans to be funded.

B. Matching Requirement

EPA is requiring applicants to demonstrate a minimum non-federal match of 25% of the total cost of the project or projects. The Agency considers this matching contribution as evidence of community support and commitment, and an opportunity to increase the overall scope of the proposed project. In addition to cash, the match can come from in-kind goods and services such as the use of volunteers and their donated time, equipment, expertise, etc., consistent with the regulation governing match requirements (40 CFR 31.24 or 40 CFR 30.23). Other federal funds may be used to meet the match requirement for this grant program if authorized by the statute governing the award of the other federal funds. EPA encourages applicants to leverage as much investment as possible, and those entities that exceed the minimum requirement may be preferred in the selection process (see section II.E).

Tribes and tribal watershed groups may be exempt from this match requirement if they are constrained to such an extent that fulfilling the match requirement would impose undue hardship. EPA acknowledges the limited means of many tribes and the difficulty they may have in obtaining non-federal matching contributions.

C. Format of the Nomination

In addition to a one-page cover letter signed by the Governor or Tribal Leader, the narrative portion of a single nomination should be no more than ten double-spaced pages long, using a 12-point font. The submission should be printed on one side only of an 8½′x11″ page and not bound. Each submission must include all of the required elements listed below. A nomination containing a narrative that exceeds 10 pages will not be considered. Project budgets, maps, letters of support, and match certifications may be appended and will not count toward the 10-page limit.

D. Required Elements of the Nomination

In general, nominees should provide a description of what efforts have been done thus far to carry out their watershed plan, and how the infusion of additional funds can result in a synergistic effect and results beyond the existing level of investment. In preparing nomination materials, nominees are to keep in mind the criteria by which their overall watershed plan will be judged as distinct from the individual projects that will be eligible for funding under the grant. Within these required elements, nominees should address completely and to the best of their ability the evaluation criteria outlined below in section II.E.

1. Narrative Description. Each nomination must contain the following components as part of the 10-page narrative portion.

(a) Characterization of the Watershed and Watershed Planning Effort

An assessment of the natural resource and environmental conditions, and an identification of problem sources and areas for treatment are required. These include:

(1) A description of the watershed's biological, physical, and, if relevant social and/or cultural characteristics.

(2) An identification of problems or threats facing the watershed.

(3) A comprehensive description of the watershed plan. This should include: (i) Short- and long-term watershed goals, (ii) identification and prioritization of the projects necessary to address the problems or threats facing the watershed; (iii) delineation of which projects that are part of the plan but are not eligible for funding; and (iv) person, or entity, who will be responsible for implementing the watershed plan.

(b) Description of the Proposed Projects

A description of the projects expected to be undertaken using the EPA grant are required. Included in this section should be:

(1) A description of the relationship of the projects to the watershed plan and goals.

(2) A detailed description of the proposed projects for EPA funding including: (i) A description of the components and goals of the projects, (ii) a schedule for implementing the projects; (iii) the project's itemized estimated budget including any leveraging commitment; and (iv) environmental milestones for determining whether the goals of the watershed projects are being realized.

(3) A monitoring and evaluation component including performance measures and quarterly progress goals, as well as a description of how the ultimate success of the projects and watershed plan will be measured. The progress and performance of the projects and watershed plan must be measurable by technically sound practices.

(4) A description of how the projects complement or are consistent with other EPA, federal, and/or state programs or mandates.

(5) Person, or entity, who will be responsible for coordinating the proposed projects.

(c) Description of Management and Stakeholder Involvement

A description of the management, staff, supporters, and stakeholders for both the watershed plan and the proposed projects is required, including:

(1) Identification, qualifications, and past experience of the plan's leader, staff, and other active public and private partners who currently participate or are expected to participate in implementation of the watershed plan, along with a description of their specific roles and responsibilities.

(2) Identification, qualifications, and past experience of the project's leader, staff, and other active public and private partners who currently participate or are expected to participate in implementation of the proposed projects, along with a description of their specific roles and responsibilities.

(3) A description of the sources and nature of any technical expertise needed and/or obtained to carry out the projects.

(4) A description or listing of other stakeholders who may play an indirect role in the specific project or overall watershed plan.

(d) A Description of Outreach Activities

Because the selected watersheds are intended to serve as models for other communities and community projects, the following are required:

(1) A strategy for transferring the knowledge gained from this effort to other areas.

(2) A description of an information and outreach component that will be used to enhance public understanding of the watershed and encourage participation in the local project or projects, and future activities regarding implementing the goals of the watershed plan.

2. Other Requirements. To substantiate the information contained in the narrative portion of the submission, proof and/or documentation to verify partnerships and matching funds is required and may be submitted as appendices. Items that must accompany the narrative description include:

(a) One-page cover letter signed by the Governor or Tribal Leader.

(b) Budgets reflecting a detailed breakdown of cost by category for each project.

(c) Signed letter(s) from active partners indicating their commitment to implementing the watershed plan or for specific proposed projects.

(d) Signed letter(s) from entities committing to provide matching funds, either cash or in-kind, and the amount of equivalent value of the commitment toward the projects.

(e) For inter-state or joint nominations, signed letter(s) expressing the support of the other participating governmental entities.

(f) Maps (optional).

E. Evaluation Criteria

Watersheds will be nominated and selected based on the submitted watershed plan. Watershed nominations will be scored for each of the following four criteria for a possible total score of 50. Watershed plans that are inter-jurisdictional (i.e., multi-state or state/tribe) will be awarded five points, and nominations that exceed the minimum match requirement will receive five points. Please note that the evaluation criteria focus on the overall watershed plan and not the proposed projects.

1. Focus on Results (20 total points). Successful nominees will have demonstrated an in-depth knowledge of the watershed ecology, presented a sound approach for combating threats or impairments to the water system, and identified a primed plan that is likely to achieve tangible, defensible environmental results in a relatively short time period. Reviewers could consider any number of components for this criterion, but will focus on the following:

(a) Watershed plan feasibility and readiness to proceed (10 points). Points will be awarded based on the overall feasibility of the plan from both a biological and engineering perspective. Reviewers also will look at the readiness of the plan and those plans that can be implemented quickly will receive more points. Plans will be evaluated on the technical merit and adequacy of each project. In sum, higher scores will be given to those nominees that have demonstrated a knowledge and understanding of priority water resource problems within the watershed; have substantially completed the assessment and planning phase of the plan; and are ready to begin.

(b) Demonstrated ability (5 points). Plans will be scored based on the qualifications and management capability of the nominee. Reviewers will assess the past experience of project leader(s) and/or partners in designing, implementing, and effectively managing and coordinating activities. Communities or organizations that have no prior experience and have developed their first watershed plan will be evaluated on the basis of their plan and their potential to effectively manage and oversee all phases of the proposed plan and demonstrated working relationship with their partners.

(c) Accountability (5 points). A nomination will be scored based on how well it is supported by a clearly articulated set of performance and progress measures, as well as a description of how these measures will be monitored. Reviewers will evaluate the plan in relation to its likelihood to achieve measurable, defensible environmental results in a relatively short time period, including attaining performance expectations, reaching project goals, and producing objective environmental results.

2. Broad Support (10 points). Watershed plans that incorporate a wide variety of state and local participation will be favored. The score for this criterion will be based on the level to which a nominee can demonstrate strong and diverse stakeholder stewardship and support. Reviewers will look for documented effective working relationships among state and local authorities, along with evidence of broad-based community involvement.

3. Innovation (5 points). Reviewers will be looking for progressive and forward-thinking plans when evaluating the nominations. Because the selected watersheds are expected to serve as models, watershed plans that undertake unique, innovative, or novel approaches to environmental problem-solving will be scored higher. Watershed plans that address regulatory challenges or provide for market-based incentives are two examples.

4. Compatibility with other Federal or State Programs (5 points). Reviewers will evaluate the extent to which the watershed plan and the proposed projects are linked to other existing state or federal programs. Points will be awarded to those watershed plans and proposed projects that integrate the common goals and complement the ongoing efforts occurring at the federal, state, or local level.

III. Applying for a Grant

Only the selected watersheds need to proceed through the grant application process. Once selected to receive a grant, the successful nominee will have 60 days to complete the formal grant application process (i.e., Application for Federal Assistance, Standard Form 424 et al). The standard EPA grants application package must be filed according to Agency guidelines. Detailed information and assistance, including an application kit, required forms, and a check list, can be found at http://www.epa.gov/ogd/AppKit/. Successful nominees may be asked to modify objectives, work plans, or budgets prior to the final approval of the award. The exact amount of funds to be awarded, the final scope of activities, the duration of the projects, and specific role of the EPA Regional project coordinator will be determined in pre-award negotiations between the nominee and EPA.

Although the selections will be announced at the national level, Watershed Initiative grants will be awarded and managed by the respective EPA Regional Offices. The designated EPA Regional Contact listed in section VI will be available to provide additional guidance in preparing the application, filling out the necessary forms, and answering any questions. In anticipation of this process, all applicants may want to explore this website for useful and pertinent information prior to preparing and submitting their nomination materials.

IV. Statutory and Regulatory Requirements

A. Authority

EPA expects to award most, if not all, of these grants under the authority of section 104(b)(3) of the Clean Water Act (CWA). This section authorizes the Agency to award grants to conduct and promote the coordination and acceleration of activities such as demonstrations, training, education, experiments, investigations, surveys, studies, and research relating to the causes, effect, extent, prevention, reduction, and elimination of water pollution. While the Agency plans to rely primarily on section 104 for authority to award these grants, grant projects, if eligible, could possibly be funded under the CWA authorities found in section 121 (Wet Weather Watershed Pilot Projects) or section 320 (National Estuary Program). Regulations pertaining to EPA grants are in Title 40 of the Code of Federal Regulations (CFR) parts 30, 31 and 35.

B. Eligible Applicants

Under section 104(b)(3) of the Clean Water Act, the following entities are eligible to receive grants: state and tribal water pollution control agencies, interstate or inter-tribal agencies, other public or non-profit private agencies, institutions, organizations, and individuals. The term “State” is defined to include the District of Columbia, Puerto Rico, U.S. Virgin Islands, Guam, American Samoa, and the Northern Mariana Islands.

C. Eligible Activities

All activities must directly support the watershed plan submitted. Grants awarded under section 104(b)(3) for this Initiative may only be used to conduct and promote the coordination and acceleration of activities such as demonstrations, training, education, experiments, investigations, surveys, studies, and research relating to the causes, effect, extent, prevention, reduction, and elimination of water pollution. These activities, while not defined in the statute, advance the state of knowledge, gather information, or transfer information. For instance, “demonstrations” are generally projects that demonstrate new or experimental technologies, methods, or approaches and the results of the project will be disseminated so that others can benefit from the knowledge gained. The innovative compilation of individual projects to create a comprehensive approach to a watershed clean-up or protection effort could constitute a demonstration project under this authority. For example, if a watershed establishes a ten-year goal for its waters and establishes an innovative collaboration of projects and measurement tools to achieve and judge its success, replication of this approach in varying geographic locations or in a diversity of circumstances (i.e, rural vs. urban) could be considered a demonstration under section 104(b)(3). Research projects may include the application of established practices when they contribute to learning about an environmental concept or problem.

Other activities are eligible for funding if the grants are awarded under section 121 (Wet Weather Pilot Projects) or section 320 (National Estuary Program) of the CWA. Candidates wishing to be considered for Watershed Initiative funding under section 121 or section 320 are urged to consult the Agency prior to initiating the nomination process because the requirements for those grants are different from those discussed in this notice.

D. Project Implementation and Management

Project monitoring and reporting requirements can be found in 40 CFR 30.50-30.54 and 40 CFR 31.40-30.45. In general, grantees are responsible for managing the day-to-day operations and supported activities of the grant to assure compliance with applicable federal requirements, and for ensuring that established milestones and performance goals are being achieved. Performance reports and financial reports must be submitted quarterly and are due 30 days after the reporting period. The final report is due 90 days after the grant has expired. Grant managers should consult, and work closely with, their regional contact person throughout the award period.

If the project involves the collection of environmental data, certain quality assurance and/or quality control (QA/QC) and peer review requirements may be applicable. Applicants should allow sufficient time and resources for this process in their proposed projects. Environmental data are any measurements or information that describe environmental processes, location, or condition; ecological or health effects and consequences; or the performance of environmental technology. Environmental data also include information collected directly from measurements, produced from models, and obtained from other sources such as data bases or published literature.

Regulations pertaining to QA/QC requirements can be found in 40 CFR 30.54 and 31.45. Additional guidance can be found at http://www.epa.gov/quality/qa_docs.html#noeparqt or by calling the Agency's Office of Environmental Information at 202-564-6830.

V. Call for Nominations

EPA invites each Governor and Tribal Leader to submit two nominations for Watershed Initiative grants. Please send the electronic version of the nomination to initiative.watershed@epa.gov. No confidential business information should be sent via e-mail and only nomination materials are to be sent to this e-mail box. If unusual or extraordinary circumstances prevent electronic submission of the nomination, please contact the appropriate Regional contact person listed below to discuss alternate arrangements.

EPA requests that 2 paper copies of the full nomination package also be sent to EPA. Submissions submitted by mail should be sent to: Robert Wayland, Director, Office of Wetlands, Oceans, and Watersheds; Mail Code 4501T; USEPA; 1200 Pennsylvania Avenue NW., Washington, DC 20460. Submissions delivered by courier should be sent to: Robert Wayland, Director, Office of Wetlands, Oceans, and Watersheds; USEPA; Rm. 7130; 1301 Constitution Avenue; NW, Washington, DC 20004. Mark all submissions: ATTN: EPA Watershed Initiative.

Please direct all questions to the Regional contact person and not to the watershed initiative e-mail box. Designated Agency Contacts for each Region are listed in section VI below. All nominations must be postmarked and received electronically by EPA by the November 21, 2002 deadline. Any nomination received after the deadline will not be considered. Please note that the US Government continues to experience security-related delays in US Postal Service deliveries, so the Agency encourages courier service.

VI. Agency Contacts

Region I—Connecticut, Maine, Massachusetts, Rhode Island, Vermont, New Hampshire

Contact: William Walsh-Rogalski or Lynne Hamjian, telephones 617-918-1035 and 617-918-1601; e-mails walshrogalski.william@epa.gov and hamjian.lynne@epa.gov, respectively.

Region II—New Jersey, New York, Puerto Rico, U.S. Virgin Islands

Contact: Theresa Faber or Cyndy Belz, telephones 212-637-3844 and 212-637-3832; e-mails faber.theresa@epa.gov and belz.cyndy@epa.gov, respectively.

Region III—Delaware, Maryland, Pennsylvania, Virginia, West Virginia, Washington, DC

Contact: Bernie Sarnoski, telephone 315-814-5756; e-mail sarnoski.bernie@epa.gov.

Region IV—Alabama, Florida, Georgia, Mississippi, North Carolina, South Carolina, Kentucky, Tennessee

Contact: William L. Cox, telephone 404-562-9351; e-mail cox.williaml@epa.gov.

Region V—Illinois, Indiana, Michigan, Minnesota, Ohio, Wisconsin

Contact: Paul Thomas, telephone 312-886-7742; e-mail thomas.paul@epa.gov.

Region VI—Louisiana, Texas, Oklahoma, Arkansas, New Mexico

Contact: Brad Lamb, telephone 214-665-6683; e-mail lamb.brad@epa.gov.

Region VII—Iowa, Kansas, Missouri, Nebraska

Contact: Julie Elfving, telephone 913-551-7475; e-mail elfving.julie@epa.gov.

Region VIII—Colorado, Montana, North Dakota, South Dakota, Utah

Contact: Karen Hamilton, telephone 303-312-6236; e-mail hamilton.karen@epa.gov.

Region IX—Arizona, California, Hawaii, Nevada, American Samoa, Mariana Islands, Guam

Contact: Sam Ziegler, telephone 415-972-3399; e-mail ziegler.sam@epa.gov.

Region X—Alaska, Idaho, Oregon, Washington

Contact: Bevin Reid, telephone 206-553-1566; e-mail reid.bevin@epa.gov.

Dated: August 14, 2002.
G. Tracy Mehan, III,
Assistant Administrator for Water.

[FR Doc. 02-21196 Filed 8-19-02; 8:45 am]

BILLING CODE 6560-50-P